THE NATIONAL FOUNDATION ON THE ARTS AND THE HUMANITIES

Meetings of Humanities Panel

AGENCY: The National Endowment for the Humanities.

ACTION: Notice of Meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: September 1, 2010.

Time: 8:30 a.m. to 5 p.m.

Room: 415.

Program: This meeting will review applications for Education and Training in Education and Training, submitted to the Division of Preservation and Access at the July 1, 2010 deadline.

2. Date: September 20, 2010.

Time: 9 a.m. to 5 p.m.

Room: 315.

Program: This meeting will review applications for Humanities Initiatives at Historically Black Colleges and Universities, Institutions with High Hispanic Enrollment, and Tribal Colleges and Universities, submitted to the Division of Education Programs at the June 15, 2010 deadline.

3. Date: September 21, 2010.

Time: 9 a.m. to 5 p.m.

Room: 315.

Program: This meeting will review applications for Humanities Initiatives at Historically Black Colleges and Universities, Institutions with High Hispanic Enrollment, and Tribal Colleges and Universities, submitted to the Division of Education at the June 15, 2010 deadline.

4. Date: September 22, 2010.

Time: 9 a.m. to 5 p.m.

Room: 315.

Program: This meeting will review applications for Humanities Initiatives at Historically Black Colleges and Universities, Institutions with High Hispanic Enrollment, and Tribal Colleges and Universities, submitted to the Division of Education at the June 15, 2010 deadline.

5. Date: September 23, 2010.

Time: 9 a.m. to 5 p.m.

Room: 421.

Program: This meeting will review applications for Africa and the Middle East in Bridging Cultures through Film: International Topics Grants Program, submitted to the Division of Public Programs at the July 28, 2010 deadline.

6. Date: September 27, 2010.

Time: 9 a.m. to 5 p.m.

Room: 421.

Program: This meeting will review applications for The Americas in Bridging Cultures through Film: International Topics Grants Program, submitted to the Division of Public Programs at the July 28, 2010 deadline.

7. Date: September 28, 2010

Time: 9 a.m. to 5 p.m.

Room: 421.

Program: This meeting will review applications for Art, Culture and Film in Bridging Cultures through Film: International Topics Grants Program, submitted to the Division of Public Programs at the July 28, 2010 deadline.

8. Date: September 28, 2010.

Time: 8:30 a.m. to 5 p.m.

Room: 415.

Program: This meeting will review applications for Research and Development in Research and Development, submitted to the Division of Preservation and Access at the July 1, 2010 deadline.

9. Date: September 29, 2010.

Time: 9 a.m. to 5 p.m.

Room: 421.

Program: This meeting will review applications for Europe and Asia in Bridging Cultures through Film: International Topics Grants Program, submitted to the Division of Public Programs at the July 28, 2010 deadline.

10. Date: September 30, 2010.

Time: 8:30 a.m. to 5 p.m.

Room: 415.

Program: This meeting will review applications for Research and Development in Research and Development, submitted to the Division of Preservation and Access at the July 1, 2010 deadline.

Michael P. McDonald,
Advisory Committee, Management Officer.

[FR Doc. 2010-20186 Filed 8-13-10; 8:45 am]

BILLING CODE 7536-01-P